DEPARTMENT OF COMMERCE

Economic Development Administration

13 CFR Parts 300, 301, 302, 303, 304, 305, 306, 307, 308, 310, 311, and 314

RIN 0610-XA08

[Docket No. 120202093-2093-01]

Economic Development Administration Regulatory Revision; Comment Period Extension

AGENCY: Economic Development Administration (EDA), Department of Commerce.

ACTION: Notice of proposed rulemaking; extension of comment period.

SUMMARY: On December 7, 2011, the Department of Commerce's Economic Development Administration (EDA) published a notice of proposed rulemaking (NPRM) in the Federal Register proposing and requesting public input on changes to EDA's operating regulations (76 FR 76492). EDA originally requested comments on the NPRM by February 6, 2012. From January 24, 2012 through February 1, 2012, EDA's Web site experienced technical difficulties, and the online feature for submitting comments on this rulemaking through EDA's Web site was unavailable. Although the other methods for submitting comments—the Federal eRulemaking Portal and regular mail to EDA's office—remained available during this period, EDA wants to ensure stakeholders have the maximum amount of time and optimal access to provide EDA with comments on its proposed regulatory changes. Therefore, EDA publishes this notice to extend the deadline for submitting comments on the December 7, 2011 NPRM to February 15, 2012.

DATES: Comments must be received or postmarked if submitting by mail no later than 5 p.m Eastern Time on February 15, 2012.

ADDRESSES: Comments will continue to be accepted by the following methods:

• Federal eRulemaking Portal: http://www.regulations.gov. Follow the instructions for submitting comments.

• Agency Web Site: http://www.eda.gov/. EDA has created an online feature for submitting comments. Please follow the instructions at http://www.eda.gov/.

• Mail: Economic Development Administration, Office of Chief Counsel, Room 5718, U.S. Department of Commerce, 1401 Constitution Avenue NW., Washington, DC 20230. Please indicate “Comments on EDA's regulations” and Docket No. 110726429-1418-01 on the envelope.

FOR FURTHER INFORMATION CONTACT: Jamie Lipsey, Acting Deputy Chief Counsel, Office of Chief Counsel, Economic Development Administration, U.S. Department of Commerce, Room 5718, 1401 Constitution Avenue NW., Washington, DC 20230; telephone (202) 482-4687.

SUPPLEMENTARY INFORMATION: EDA's regulations, which are codified 13 CFR chapter III, provide the framework through which the agency administers its economic development assistance programs. In 2011, EDA requested comments on these regulations from stakeholders and the public, and conducted an internal review of the regulations, to ensure they reflect and incentivize innovation and collaboration and reflect best practices in economic development. In the December 7, 2011 NPRM (76 FR 76492), EDA proposed changes to these regulations and requested public input on the proposed changes. EDA's Web site recently experienced technical difficulties that made it impossible for members of the public to comment on the proposed rule through EDA's Web site. This issue has since been resolved. However, because of strong interest in this initiative, and to ensure stakeholders and the public have ample time and optimal access to comment on these changes, EDA is extending the deadline for submitting comments from February 6, 2012 to February 15, 2012.

Comments should be submitted to EDA as described in ADDRESSES above. EDA encourages using the online feature of the agency's Web site to submit comments and suggestions to EDA's proposed regulatory changes. The Web site is easily accessible at http://www.eda.gov/, and offers participants an opportunity to view the comments of others. EDA will consider all comments submitted electronically by 5 p.m. Eastern Time on February 15, 2012, or that are postmarked by that date, as referenced in DATES above. EDA will not accept public comments accompanied by a request that part or all of the material submitted by treated confidentiality for any reason; EDA will not consider such comments and will return them and their accompanying materials to the commenter. All public comments (including those faxed or emailed to the agency) submitted in response to this notice must be in writing and will be a matter of public rec ord.

Dated: February 2, 2012.
Jamie Lipsey,
Acting Deputy Chief Counsel, Economic Development Administration.

[FR Doc. 2012-2743 Filed 2-7-12; 8:45 am]

BILLING CODE 3510-24-P